DEPARTMENT OF LABOR

Office of the Secretary; Submission for OMB Emergency Review; Comment Request

May 3, 2000.

The Department of Labor (DOL) has submitted the following information collection request (ICR), utilizing emergency review procedures, to the Office of Management and Budget (OMB) for review and clearance in accordance with the Paperwork Reduction Act of 1995 (P.L. 104-13, 44 U.S.C. chapter 35). OMB approval has been requested by June 23, 2000. A copy of this ICR, with applicable supporting documentation, may be obtained by calling the Department of Labor Departmental Clearance Officer, Ira L. Mills on (202) 219-5095 x 129.

Comments and questions about the ICR listed below should be forwarded to the Office of Information and Regulatory Affairs, Attn: OMB Desk Officer for Departmental Management, U.S. Department of Labor, Office of Management and Budget, Room 10235, Washington, DC 20503 (202) 395-7316.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Office of the Secretary, DOL.

Title: 2000 Family Medical Leave Act (FMLA) Employer and

Employee Surveys.

OMB Number: 1225-0 New.

Frequency: One time for both surveys.

Affected Public: Individuals or households; business or other for-profit.

Employee Survey

Sampled households | Total responses | Average time per response (minutes) | Estimated total burden (hours)
Screeners | 10,000 | 5 | 833
Leave Takers | 1,400 | 15 | 350
Leave Needer | 206 | 7 | 24
Employed Respondent | 800 | 5 | 67
Total | 12,406 |  | 1,274

Employee Survey:

Sampled establishments | Total responses | Average time per response (minutes) | Estimated total burden (hours)
Screeners | 2,400 | 5 | 200
Data Gathering by Respondent | 1,500 | 45 | 1,125
Extended Interview | 1,500 | 20 | 500
Total | 5,400 |  | 1,825

Total Burden: 3,099 hours.

Total Burden Cost (capital/startup): $0.

Total Burden Cost (operating/maintaining): $0.

Description: DOL will conduct two surveys as a follow-up to the 1995 surveys done by the Commission on Family and Medical Leave, a bipartisan body established by the Congress. Prior survey clearances were approved by OMB under 1225-0062 (survey of businesses) and 1225-0063 (survey of employees). The new surveys will determine the response by employees and employers to family and medical leave issues, in general, as well as to the Family and Medical Leave Act. The new surveys will be very similar to the previous surveys to permit an analysis of the changes (if any) since 1995. Comments submitted in response to this notice will become a matter of public record.

Ira L. Mills,
Departmental Clearance Officer.

[FR Doc. 00-11444 Filed 5-5-00; 8:45 am]

BILLING CODE 4510-23-M